DEPARTMENT OF TRANSPORTATION

National Highway Traffic Safety Administration

[Docket No. NHTSA-2018-0075]

Paperwork Reduction Act 30-Day Notice; Request for Comments

AGENCY: National Highway Traffic Safety Administration (NHTSA), Department of Transportation (DOT).

ACTION: Notice and request for comments on an extension of a previously-approved information collection.

SUMMARY: In compliance with the Paperwork Reduction Act of 1995, this notice announces that the Information Collection Request (ICR) abstracted below is being forwarded to the Office of Management and Budget (OMB) for review, and requests comments on the ICR. A Federal Register Notice with a 60-day comment period soliciting comments on the following information collection was published on July 23, 2018. NHTSA received three comments on the 60-day notice. One supported the information collection, another addressed an issue unrelated to information collection, and a third stated that the research is a waste of money without providing any support for the statement. NHTSA has concluded that it is not necessary to make any changes to the information collection based on those comments.

DATES: Comments must be submitted on or before March 7, 2019.

ADDRESSES: Send comments regarding the burden estimate, including suggestions for reducing the burden, to the Office of Management and Budget, Attention: Desk Officer for the Office of the Secretary of Transportation, 725-17th Street NW, Washington, DC 20503.

FOR FURTHER INFORMATION CONTACT: For additional information or access to background documents, contact Timothy M. Pickrell, NHTSA, 1200 New Jersey Avenue SE, W55-320, NSA-210, Washington, DC 20590. Mr. Pickrell's telephone number is (202) 366-2903. Please identify the relevant collection of information by referring to its OMB Control Number.

SUPPLEMENTARY INFORMATION: Before a Federal agency can collect certain information from the public, it must receive approval from the Office of Management and Budget (OMB). In compliance with these requirements, this notice announces that the following information collection request has been forwarded to OMB.

A Federal Register notice with a 60-day comment period soliciting comments on the information collection was published on July 23, 2018 (83 FR 34912). NHTSA received three comments on the 60-day notice. Consumer Reports supported the information collection. Of the other two comments, one addressed a subject other than the subject of the information collection, and therefore was not relevant, and the other stated that the research is a waste of money but did not provide support for that view. NHTSA has concluded that it is not necessary to make any changes to the information collection based on those comments.

Title: The National Survey of the Use of Booster Seats.

OMB Control Number: 2127-0644.

Affected Public: Motorists in passenger vehicles at gas stations, fast food restaurants, and other types of sites frequented by children during the time in which the survey is conducted.

Form Number: NHTSA Form 1010.

Abstract: NHTSA began conducting the National Survey of the Use of Booster Seats to respond to Section 14(i) of the Transportation Recall Enhancement, Accountability, and Documentation (TREAD) Act of 2000. Section 14(i), “Booster seat education program,” directed the Department of Transportation to develop a 5-year plan to reduce deaths and injuries caused by failure to use an appropriate booster seat among children in the 4- to 8-year old age group by twenty-five percent. Conducting the National Survey of the Use of Booster Seats provided the Department with invaluable information on use and non-use of booster seats, helping the Department to improve its booster seat outreach programs. NHTSA has continued the survey to obtain current data on booster seat use, to ensure that children ages 4 to 8 are protected to the greatest extent possible when they ride in motor vehicles. NHTSA also seeks to collect information about child restraint use by children of other ages.

The OMB approval for the survey is scheduled to expire on May 31, 2019. NHTSA seeks an extension of this approval to obtain this important survey data. With up-to-date data of consumers' use and non-use of booster seats and other child restraint systems, the agency will be better able to maximize the effectiveness of its outreach and consumer education programs in increasing correct booster and other child restraint use, and save more children from death and injury.

Estimated Total Annual Burden Hours: 340 hours.

Estimated Number of Respondents: Approximately 4,800 adult motorists in passenger vehicles at gas stations, fast food restaurants, and other types of sites frequented by children during the time in which the survey is conducted.

Public Comments Invited: You are asked to comment on any aspect of this information collection, including (a) Whether the proposed collection of information is necessary for the Department's performance; (b) the accuracy of the estimated burden; (c) ways for the Department to enhance the quality, utility and clarity of the information collection; and (d) ways that the burden could be minimized without reducing the quality of the collected information.

Authority: The Paperwork Reduction Act of 1995; 44 U.S.C. Chapter 35, as amended; and 49 CFR 1.95.

Cem Hatipoglu,
Acting Associate Administrator for the National Center for Statistics and Analysis.

[FR Doc. 2019-01057 Filed 2-4-19; 8:45 am]

BILLING CODE 4910-59-P